DEPARTMENT OF JUSTICE

Drug Enforcement Administration

Importer of Controlled Substances; Notice of Registration

By Notice dated February 23, 2005 and published in the Federal Register on March 4, 2005, (70 FR 10680-10681), Lipomed Inc., One Broadway, Cambridge, Massachusetts 02142, made application by renewal to the Drug Enforcement Administration (DEA) to be registered as an importer of the basic classes of controlled substances listed in Schedules I and II.

Drug | Schedule
Cathinone (1235) | I
Methaqualone (2565) | I
Gamma-Hydroxybutyric Acid (2010) | I
Lysergic acid diethylamide (7315) | I
Marihuana (7360) | I
Tetrahydrocannabinols (7370) | I
Mescaline (7381) | I
3,4,5-Trimethoxyamphetamine (7390) | I
4-Bromo-2-5-dimethoxyamphetamine (7391) | I
4-Methyl-2,5-dimethoxyamphetamine (7395) | I
2,5-Dimethoxyamphetamine (7396) | I
2,5-Dimethoxy-4-ethylamphetamine (7399) | I
3,4-Methylenedioxyamphetamine (7400) | I
3,4-Methylenedioxy-N-ethylamphetamine (7404) | I
3,4-Methylenedioxymethamphetamine (7405) | I
Psilocybin (7437) | I
Psilocyn (7438) | I
Acetyldihydrocodeine (9051) | I
Dihydromorphine (9145) | I
Heroin (9200) | I
Tilidine (9750) | I
Amphetamine (1100) | II
Methamphetamine (1105) | II
Amobarbital (2125) | II
Secobarbital (2315) | II
Phencyclidine (7471) | II
Cocaine (9041) | II
Codeine (9050) | II
Dihydrocodeine (9120) | II
Oxycodone (9143) | II
Hydromorphone (9150) | II
Benzoylecgonine (9180) | II
Hydrocodone (9193) | II
Levorphanol (9220) | II
Methadone (9250) | II
Dextropropoxphene (9273) | II
Morphine (9300) | II
Thebaine (9333) | II
Oxymorphone (9652) | II
Alfentanil (9737) | II
Fentanyl (9801) | II

The company plans to import small reference standard quantities of finished commercial product from its sister company in Switzerland for distribution to its customers for drug testing and pharmaceutical research and development.

No comments or objections have been received. DEA has considered the factors in 21 U.S.C. 823(a) and 952(a) and determined that the registration of Lipomed Inc. to import the basic classes of controlled substances is consistent with the public interest and with United States obligations under international treaties, conventions, or protocols in effect on May 1, 1971, at this time. DEA has investigated Lipomed Inc. to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: July 19, 2005.
William J. Walker,
Deputy Assistant Administrator, Office of Diversion Control, Drug Enforcement Administration.

[FR Doc. 05-14832 Filed 7-26-05; 8:45 am]

BILLING CODE 4410-09-P